ENVIRONMENTAL PROTECTION AGENCY

[FRL-8172-8]

Establishment of the Coastal Elevations and Sea Level Rise Advisory Committee

AGENCY: Environmental Protection Agency (EPA).

ACTION: Notice; establishment of advisory committee.

SUMMARY: As required by section 9(a)(2) of the Federal Advisory Committee Act, we are giving notice that EPA is establishing the Coastal Elevations and Sea Level Rise Advisory Committee (CESLAC). The purpose of this Committee is to provide advice on the conduct of a study titled Coastal Elevations and Sensitivity to Sea Level Rise to be conducted as part of the U.S. Climate Change Science Program (CCSP). It is part of a comprehensive assessment of issues identified by the CCSP's Strategic Plan for the Climate Change Science Program. CESLAC will advise on the specific issues which should be addressed in the assessment, appropriate technical approaches, the nature of information relevant to decision makers, the content of the assessment report, and other scientific and technical matters that may be found to be important to the successful completion of the study. EPA has determined that this advisory committee is in the public interest and will assist the Agency in performing its duties under the Clean Water Act, Clean Air Act and the Global Climate Protection Act. Balanced membership will be achieved by including individuals from the Federal Government, State and/or local governments, the scientific community, non-governmental organizations and the private sector with expertise, experience, knowledge and interests essential to, or affected by, the successful completion of the study titled Coastal Elevations and Sensitivity to Sea Level Rise. Copies of the Committee Charter will be filed with the appropriate congressional committees and the Library of Congress.

FOR FURTHER INFORMATION CONTACT: Jack Fitzgerald (6207J), Climate Change Division, Office of Atmospheric Programs, Environmental Protection Agency, 1200 Pennsylvania Avenue, NW., Washington, DC 20460; telephone number: (202) 343-9336; e-mail address: Fitzgerald.jack@epa.gov.

Dated: March 20, 2006.
William L. Wehrum,
Acting Assistant Administrator, Office of Air and Radiation.

[FR Doc. E6-7757 Filed 5-19-06; 8:45 am]

BILLING CODE 6560-50-P